DEPARTMENT OF HEALTH AND HUMAN SERVICES

42 CFR Part 37

Specifications for Medical Examinations of Coal Miners

CFR Correction

In Title 42 of the Code of Federal Regulations, Parts 1 to 399, revised as of October 1, 2014, on page 183, in § 37.51, in paragraph (d)(1)(i), remove the text “P='56734'≤”.

[FR Doc. 2015-09757 Filed 4-24-15; 8:45 am]

BILLING CODE 1505-01-D